DEPARTMENT OF HEALTH AND HUMAN SERVICES

Centers for Disease Control and Prevention

Board of Scientific Counselors, National Center for Injury Prevention and Control, (BSC, NCIPC); Correction

Notice is hereby given of a change in the meeting of the Board of Scientific Counselors, National Center for Injury Prevention and Control, (BSC, NCIPC); June 19, 2018, 8:30 a.m.-5:15 p.m., EDT and June 20, 2018, 8:30 a.m.-12:30 p.m., EDT, which was published in the Federal Register on May 14, 2018 Volume 83, Number 93, pages 22263-22264. The SUMMARY should read as follows:

SUMMARY: In accordance with the Federal Advisory Committee Act, the CDC announces the following meeting for the Board of Scientific Counselors, National Center for Injury Prevention and Control, (BSC, NCIPC). This meeting is open to the public limited only by the space and ports available. The meeting room accommodates 70 participants and there will be 125 ports available. Due to the limited accommodations by phone ports and room size, we are encouraging the public to please register using the link https://www.surveymonkey.com/r/CMNSX73. There will be a public comment period from 11:10 a.m.-11:40 a.m., on June 19, 2018, and from 11:30 a.m.-11:45 a.m., on June 20, 2018. All public comments will be limited to two-minutes per speaker.

FOR FURTHER INFORMATION CONTACT: Gwendolyn H. Cattledge, Ph.D., M.S.E.H., Deputy Associate Director for Science, NCIPC, CDC, 4770 Buford Highway NE, Mailstop F-63, Atlanta, GA 30341, Telephone (770) 488-1430, Email address: NCIPCBSC@cdc.gov.

The Director, Management Analysis and Services Office, has been delegated the authority to sign Federal Register notices pertaining to announcements of meetings and other committee management activities, for both the Centers for Disease Control and Prevention and the Agency for Toxic Substances and Disease Registry.

Elaine Baker,
Director, Management Analysis and Services Office, Centers for Disease Control and Prevention.

[FR Doc. 2018-11976 Filed 6-4-18; 8:45 am]

BILLING CODE 4163-18-P